DEPARTMENT OF HEALTH AND HUMAN SERVICES

Centers for Medicare & Medicaid Services

42 CFR Parts 405 and 414

[CMS-1372-CN]

RIN 0938-AM97

Medicare Program; Changes to the Medicare Payment for Drugs for Calendar Year 2004; Correction

AGENCY: Centers for Medicare & Medicaid Services (CMS), HHS.

ACTION: Correction of interim final rule.

SUMMARY: This document corrects errors in the interim final rule with comment period that appeared in the Federal Register on January 7, 2004, entitled “Medicare Program; Changes to Medicare Payment for Drugs and Physician Fee Schedule Payments for Calendar Year 2004; Interim Final Rule.”

EFFECTIVE DATE: January 1, 2004.

FOR FURTHER INFORMATION CONTACT: Jennifer Fan, (410) 786-0548.

SUPPLEMENTARY INFORMATION:

I. Background

In FR Doc. 03-32323 of January 7, 2004 (69 FR 1084), there were a number of technical errors that are identified and corrected in the Correction of Errors section below. The provisions in this correction notice are effective as if they had been included in the document published January 7, 2004. Accordingly, the corrections are effective January 1, 2004.

In Addendum F, on page 1250, we provided payment limits for three categories of drugs: “2004 Limit for Drugs (other than ESRD drugs separately billed by independent ESRD facilities and drugs infused through DME)”, “2004 Limit for ESRD drugs separately billed by independent ESRD facilities”, and “2004 Limit for Drugs when infused through DME.” We inadvertently omitted and miscalculated some payment limits in the three columns and have corrected these errors. We are republishing Addendum F with the corrected information.

II. Correction of Errors

In FR Doc. 03-32323 of January 7, 2004 (69 FR 1084), republish Addendum F.

BILLING CODE 4120-01-P

BILLING CODE 4120-01-C

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

In this case, we believe that it is unnecessary to subject the corrections identified above to public comment. These errors were the result of inadvertent omissions and pricing errors in Addendum F. Our corrections of the pricing errors and addition of pricing information in the addendum does not substantively change any policy nor affect the payment methodology established under the new legislation. For this reason, we find it unnecessary to provide the opportunity for comment on the technical corrections made in this notice. Therefore, we find good cause to waive notice and comment procedures.

(Catalog of Federal Domestic Assistance Program No. 93.774, Medicare—Supplementary Medical Insurance Program.)

Dated: March 4, 2004.
Ann C. Agnew,
Executive Secretary to the Department.

[FR Doc. 04-6338 Filed 3-19-04; 9:16 am]

BILLING CODE 4120-01-P